ENVIRONMENTAL PROTECTION AGENCY

[ER-FRL-6611-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-OE-K36133-CA Rating EC2, Whitewater River Basin (Thousand Palms) Flood Control Project, Construction of Facilities to Provide Flood Protection, Coachella Valley, Riverside County, CA.

Summary: EPA expressed concerns that the DEIS did not address the need for air quality mitigation measures that may be necessary for emissions of oxides of nitrogen (NOX), ozone precursors, and carbon monoxide under EPA's general conformity rule. EPA also had concerns that the DEIS asserts that there is no need to secure Clean Water Act Section 401 water quality certification or waiver from the state water pollution control agency, which is an important safeguard to ensure that Federally-authorized projects do not violate State-adopted, EPA-approved Water Quality Standards or impair beneficial uses. The Final EIS should address how the Corps would ensure that Water Quality Standards and beneficial uses are fully protected.

ERP No. D-COE-K39060-CA Rating EC2, Upper Newport Bay Restoration Project, To Develop a Long-Term Management Plan to Control Sediment Deposition, Orange County, CA.

Summary: EPA expressed concerns regarding impacts to air quality and that some reasonable alternatives were not evaluated, including reduced dredging, controlling sediment before reaching the Bay, and beneficial re-use of dredged material. We recommended additional information in the FEIS regarding other reasonable project alternatives, including disposal alternatives; baseline assumptions and evaluation criteria; and conformity with the State Implementation Plan.

ERP No. D-COE-L39056-WA Rating LO, Programmatic EIS—Green/Duwamish River Basin Restoration Program, Capitol Improvement Type Program and Ecological Health, King County, WA.

Summary: EPA had no objection to the proposed project. EPA did however provide comments on the cumulative effects analysis, the need for more information on funding mechanisms and some concerns over the level of public access allowed to restoration sites, especially sensitive wetlands.

ERP No. D-FHW-G40158-TX Rating EO2, Grand Parkway (TX-99) Segment C, Construction from US 59 to TX 288, Funding and Right-of-Way Requirements, City of Houston, Fort Bend and Brazoria Counties, TX.

Summary: EPA expressed objection due to the project's potential contribution to air quality issues in Houston. The project is likely to create significant secondary development that may delay the attainment of the ozone air quality standard. EPA requested that the final document address the overall impact of the project and how the project affects attainment and meets the intent of the Clean Air Act.

ERP No. D-SFW-F64004-OH Rating LO, Little Darby National Wildlife Refuge Establishment in the Little Darby Creek Watershed for Restoration, Preservation, Enhancement and Protection of Fish and Wildlife Resources, Madison and Union Counties, OH.

Summary: EPA has no objection to the proposed action. EPA believes that the proposed action has the potential to restore, preserve, enhance and protect the biodiversity of the upper Little Darby Creek Watershed.

ERP No. DR-COE-K36051-AZ Rating EC2, Rio de Flag Flood Control Study, Improvement and Flood Protection, To Reduce Damages to Residential Commercial, Industrial and Historic Property, City of Flagstaff, Coconino County, AZ.

Summary: EPA reiterated concerns expressed on the previous Draft EIS that the preferred alternative does not sufficiently address the extent or boundaries of Clean Water Act Section 404 jurisdiction (i.e., waters of the United States). EPA also strongly recommended that the Los Angeles District re-evaluate how determinations of compliance with the Section 404(b)(1) Guidelines are documented for its proposed water resource development projects.

Final EISs

ERP No. F-COE-F39039-00 John T. Myers and Greenup Lock Improvements, To Alleviate Commercial Navigation Traffic Congestion, Ohio River Mainstem Systems Study, (ORMSS), Interim Feasibility Report, Indiana, Kentucky and Ohio.

Summary: EPA continued to express objections with regard to how the project's purpose and need statement was formulated and how the cumulative impact analysis was performed.

ERP No. F-DOE-L00007-00 Sodium-Bonded Spent Nuclear Fuel Treatment and Management, Candidate Disposal Sites are Argonne National Laboratory-West (ANL-W) located within the boundaries of the Idaho National Laboratory, ID and the Savannah River Sites (SRS) F-Area and L-Area, SC.

Summary: No formal comment letter was sent to the preparing agency.

ERP No. F-FAA-G51015-TX George Bush Intercontinental Airport Houston, Construction and Operation, Runway 8L-26R and Associated Near Term Master Plan Projects, Funding and Airport Layout Plan Approval, City of Houston, Harris County, TX.

Summary: The final EIS fully responded to EPA's previous comments on the draft EIS. Therefore, EPA has no objection to the action as proposed.

ERP No. F-FHW-F40377-MI I-96 East Howell Interchange Project, Transportation Improvements, Funding, Major Investment Study, Cities of Howell and Brighton, Livington County, MI.

Summary: EPA continued to express concern regarding potential indirect and cumulative impacts to wetlands.

ERP No. F-FHW-G40153-NM New Mexico Forest Highway 45 (Forest Road 537) known locally as the Sacramento River Road, Improvements from Sunspot to Timberon, Otero County, NM.

Summary: EPA had no objections to the proposed action as described in the draft EIS.

ERP No. F-FHW-H40164-MO MO-50/West-Central Corridor Location Study, Transportation Improvements, Sedalia to St. Martins, Pettis, Cooper, Morgan and Moniteau and Cole Counties, MO.

Summary: The FEIS adequately supplemented needed information and addressed the concerns that EPA expressed in the DEIS review.

ERP No. F-FRC-K03023-00 Southern Trails Pipeline Project (CP99-163-000), Conversion of an Existing Crude Oil Pipeline (known as the ARCO Four Corners Pipeline Line 90 System), Construction and Operation, CA, AZ, UT and NM.

Summary: No formal comment letter was sent to the preparing agency.

ERP No. F-TVA-E39052-MS Union County Multipurpose Reservoir/Other Water Supply Alternatives Project, To Provide an Adequate and Reliable Water Supply, COE Section 404 Permit and NPDES Permit, City of New Alban, Union County, MS.

Summary: EPA continues to object to the proposed action since it is likely that the multipurpose reservoir would result in lake eutrophication. EPA objected to lack of resolution of several essential elements to maintaining reservoir water quality (e.g., basin management plan, shoreline ownership, identification of a local reservoir manager). EPA also objected that discharge flows from the dam were not sufficiently assessed and not consistent with EPA/FWS instream flow guidelines, and that TVA has not selected a federal preferred alternative in the FEIS for the overall project.

Dated: September 19, 2000.
Anne Norton Miller,
Acting Director, Office of Federal Activities.

[FR Doc. 00-24452 Filed 9-21-00; 8:45 am]

BILLING CODE 6560-50-P